DEPARTMENT OF TRANSPORTATION

Federal Motor Carrier Safety Administration

[Docket No. FMCSA-2018-0009]

Qualification of Drivers; Exemption Applications; Vision

AGENCY: Federal Motor Carrier Safety Administration (FMCSA), DOT.

ACTION: Notice of denials.

SUMMARY: FMCSA announces its decision to deny applications from 103 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., e.t., Monday through Friday, except Federal holidays.

SUPPLEMENTARY INFORMATION:

I. Electronic Access

You may see all the comments online through the Federal Document Management System (FDMS) at: http://www.regulations.gov.

Docket: For access to the docket to read background documents or comments, go to http://www.regulations.gov and/or Room W12-140 on the ground level of the West Building, 1200 New Jersey Avenue SE, Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

FMCSA received applications from 103 individuals who requested an exemption from the vision standard in the FMCSRs.

FMCSA has evaluated the eligibility of these applicants and concluded that granting these exemptions would not provide a level of safety that would be equivalent to or greater than, the level of safety that would be obtained by complying with the regulation 49 CFR 391.41(b)(10).

III. Basis for Exemption Determination

Under 49 U.S.C. 31136(e) and 31315, FMCSA may grant an exemption if it finds such an exemption would likely achieve a level of safety that is equivalent to, or greater then, the level that would be achieved absent such an exemption.

The Agency's decision regarding these exemption applications is based on the eligibility criteria, the terms and conditions for Federal exemptions, and an individualized assessment of each applicant's medical information provided by the applicant.

IV. Conclusion

The Agency has determined that these applicants do not satisfy the criteria eligibility or meet the terms and conditions of the Federal exemption and granting these exemptions would not provide a level of safety that would be equivalent to or greater than, the level of safety that would be obtained by complying with the regulation 49 CFR 391.41(b)(10). Therefore, the 103 applicants in this notice have been denied exemptions from the physical qualification standards in 49 CFR 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following two applicants did not have sufficient driving experience over the past three years under normal highway operating conditions: Christopher E. Day (OR); Andrew R. Sampson (MD).

The following 41 had no experience operating a CMV:

Aktham G. Abdelraouf (UT)

Javier A. Alcantara (FL)

Robbie R. Austin (ID)

John J. Beich (FL)

Michael J. Berry (PA)

Joseph B. Chun Tei (CA)

Kevin D. Craft (LA)

Dane C. Czerniak (PA)

Michael Deckert (PA)

Joseph F. Desgrottes (FL)

Brian S. Duncan (MO)

Joseph Eppolito (NY)

William E. Fowler (VA)

Levin D. Gann-Olehy (MN)

Abdirisak A. Hassan (MN)

George A. Kellner (FL)

Brian D. Leeper (IN)

Kelvin K. Mcatee (IL)

Adrian Mendoza (CA)

John R. Menendez (MO)

Andre J. Murdock (MD)

Donald J. Nelson (ID)

Thomas M. Palmer (PA)

Joseph L. Rigsby (AL)

Andrew W. Rocole (NE)

Homero Saenz (KY)

Reginald I. Sessum (NY)

Antwine Simmons (GA)

Saban R. Sosic (MI)

Miguel A. Soto (CA)

James V. Stuart (MA)

Travis D. Summerville (IL)

Donavon X. Taylor (MS)

Paul R. Todi (KY)

Carlos M. Torres Nieves (TX)

Ryan Tortorelli (CO)

Isai Trejo (CO)

Matthew C. Walker (IN)

Felicia R. Warnick (IL)

David A. Whittam (WA)

Wade R. Winckler (SD)

The following 13 applicants did not have 3 years of experience driving a CMV on public highways with their vision deficiencies:

Steven J. Brown (NY)

Joseph S. Clymer (OH)

Scott R. Dawley (IA)

Gary A. Foley (NH)

Antonio E. Gargano (PA)

Clyde M. Kennedy (VA)

Elmer D. King (PA)

Curtis M. Kirkland (GA)

Paul L. Koch (WI)

Lee A. Leasure (CA)

Gregory J. Mastey (WI)

Donald R. Pierson (WA)

Jeffrey Shauver (IN)

The following 11 applicants did not have 3 years of recent experience driving a CMV with the vision deficiency:

Arthur T. Brown (FL)

Henry M. Darden (DC)

Theodore A. DuBreuil (MI)

Thomas S. Ewald (IA)

Barry J. Friedlander (NY)

Gregory P. Grimes (OK)

Louis W. Henderson (DE)

Michael A. Higgins (IL)

Rex R. Pannell (AR)

Ricky A. Schott (PA)

Jamie S. White (GA)

The following eight applicants did not have sufficient driving experience during the past 3 years under normal highway operating conditions (gaps in driving record):

Brannon S. Alexander (MO)

Russell E. Burden (WY)

Jeffrey P. Campbell (KY)

Daniel D. Diggs (TX)

Ahmed M. Gutale (MN)

Zachary W.L. Justice (OH)

Joanna Marlow (NM)

Lawrence B. Reyes (WA)

The following applicant, William D. Harris (IN), contributed to accident(s) in which the applicant was operating a CMV, which is a disqualifying offense.

The following applicant, Marty J. Prouty (IA), did not demonstrate the level of safety required for interstate driving based on the state-issued driving report (excessive moving/non-moving violations during 3-year period).

The following applicant, Johnny Frasier (FL), did not have an optometrist or ophthalmologist willing to make a statement that they are able to operate a commercial vehicle from a vision standpoint.

The following 18 applicants were denied for multiple reasons:

Fnu Aryan (TX)

Dennis K. Bench (MT)

David A. Bronson (FL)

Elliott D. Hain (PA)

Dennis L. Johnson (NC)

Paul E. Kemp (MS)

Jeffrey T. Landry (NC)

Joshua S. Little (MD)

Progress A. Lloyd (NC)

Lydia McCormick (NY)

Mark A. Myers (IN)

Deborah A. Nichols (MI)

Ronald Sapp (GA)

Craig Scott (GA)

Jeffery L. Shick (IL)

Joy S. Smith (TX)

Patrick J. Stempel (NY)

Scott W. Ward (PA)

The following three applicants have not had stable vision for the preceding 3-year period: Daniel R. Parramore (FL); Cheryl A. Phelps (OH); Guadalupe Potter (WA).

The following four applicants drove interstate while restricted to intrastate driving:

Michael D. Cameron (TN)

Thomas R. Row (PA)

Joel Vasquez (TX)

Tony L. Willschau (SD)

Issued on: April 23, 2018.
Larry W. Minor,
Associate Administrator for Policy.

[FR Doc. 2018-08911 Filed 4-26-18; 8:45 am]

BILLING CODE 4910-EX-P